DEPARTMENT OF HEALTH AND HUMAN SERVICES

Centers for Disease Control and Prevention

Advisory Committee to the Director (ACD), Centers for Disease Control and Prevention—Health Disparities Subcommittee (HDS); Meetings

In accordance with section 10(a)(2) of the Federal Advisory Committee Act (Pub. L. 92-463), the Centers for Disease Control and Prevention (CDC) announces the following meeting of the aforementioned subcommittee:

Times and Dates

1:30 p.m.-5:00 p.m. EST, November 12, 2014.

9:00 a.m.-3:00 p.m. EST, November 13, 2014.

Place: CDC, Building 19, Distance Learning Auditorium, 1600 Clifton Road NE., Atlanta, Georgia 30333.

Status: Open to the public, limited only by the space available. The meeting room accommodates approximately 50 people. The public is welcome to participate during the public comment period, tentatively scheduled from 2:45 p.m. to 3:00 p.m. on November 13, 2014. This meeting is also available by teleconference. Please dial (866) 763-0273 and enter code 6158968.

Purpose: The Subcommittee will provide advice to the CDC Director through the ACD on strategic and other health disparities and health equity issues and provide guidance on opportunities for CDC.

Matters for Discussion: The Health Disparities Subcommittee members will discuss progress-to-date in accomplishing the health equity recommendations approved by the CDC ACD; updates on health disparities training for the public health workforce, and collaborations with the State, Tribal, Local, and Territorial Subcommittee to the ACD.

The agenda is subject to change as priorities dictate.

Web Links

Windows Media Connection

http://wm.onlinevideoservice.com/CDC1.

Flash Connection

http://www.onlinevideoservice.com/clients/CDC/?mount=CDC3.

If you are unable to connect using the link, copy and paste the link into your web browser.

Number for Technical Support: (404) 639-3737.

Contact Person for More Information: Leandris Liburd, Ph.D., M.P.H., M.A., Designated Federal Officer, Health Disparities Subcommittee, ACD, CDC, 1600 Clifton Road NE., M/S K-77, Atlanta, Georgia 30333, Telephone (770) 488-8343, Email: LEL1@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2014-24936 Filed 10-20-14; 8:45 am]

BILLING CODE 4163-18-P